DEPARTMENT OF COMMERCE

International Trade Administration

[A-570-856]

Notice of Amendment of Antidumping Duty Order: Synthetic Indigo From the People's Republic of China

AGENCY: Import Administration, International Trade Administration, Department of Commerce

EFFECTIVE DATE: June 23, 2000.

FOR FURTHER INFORMATION CONTACT: David J. Goldberger or Dinah McDougall, Import Administration, International Trade Administration, U.S. Department of Commerce, 14th Street and Constitution Avenue, NW., Washington, DC 20230; telephone: (202) 482-4136 or (202) 482-3773, respectively.

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations refer to 19 CFR part 351 (1999).

Scope of Order

The products subject to this investigation are the deep blue synthetic vat dye known as synthetic indigo and those of its derivatives designated commercially as “Vat Blue 1.” Included are Vat Blue 1 (synthetic indigo), Color Index No. 73000, and its derivatives, pre-reduced indigo or indigo white (Color Index No. 73001) and solubilized indigo (Color Index No. 73002). The subject merchandise may be sold in any form (e.g., powder, granular, paste, liquid, or solution) and in any strength. Synthetic indigo and its derivatives subject to this investigation are currently classifiable under subheadings 3204.15.10.00, 3204.15.40.00 or 3204.15.80.00 of the Harmonized Tariff Schedule of the United States (“HTSUS”). Although the HTSUS subheadings are provided for convenience and customs purposes, the written description of the merchandise under investigation is dispositive.

Amendment to Antidumping Duty Order

On June 12, 2000, in accordance with section 735(d) of the Act, the U.S. International Trade Commission (ITC) notified the Department that a U.S. industry is materially injured by reason of imports of synthetic indigo from the PRC, pursuant to section 735(b)(1)(A) of the Act. In addition, the ITC found that critical circumstances exist with regard to such imports from the PRC.

On June 19, 2000, in accordance with section 736(a)(1) of the Act, the Department published its amended final determination and antidumping duty order on synthetic indigo from the People's Republic of China. See Notice of Amendment of Final Determination of Sales at Less Than Fair Value and Antidumping Duty Order: Synthetic Indigo from the People's Republic of China, 65 FR 37961, (June 19, 2000). However, in that publication, we inadvertently omitted the revised margin percentage for one company, Wuhan Tianjin Chemicals Imports & Exports Corp., Ltd. This amended order is being published to correct this error.

In accordance with section 736(a)(1) of the Act, the Department will direct the United States Customs Service to assess, upon further advice by the Department, antidumping duties equal to the amount by which the normal value of the merchandise exceeds the export price or constructed export price of the merchandise for all relevant entries of synthetic indigo from the PRC. These antidumping duties will be assessed on all unliquidated entries of imports of the subject merchandise that are entered, or withdrawn from warehouse, for consumption on or after September 15, 1999, the date 90 days prior to the date of publication of the preliminary determination in the Federal Register, in accordance with the critical circumstances finding in the final determination.

On or after the date of publication of this notice in the Federal Register, U.S. Customs officers must require, at the same time as importers would normally deposit estimated duties, the cash deposits listed below for the subject merchandise. The “PRC-wide Rate” applies to all exporters of synthetic indigo not specifically listed below.

The revised final weighted-average margins are as follows:

Exporter/manufacturer | Original final margin percentage | Revised final margin percentage
Wonderful Chemical Industrial Ltd./Jiangsu Taifeng Chemical Industry Co., Ltd | 77.89 | 79.70
China National Chemical Construction Jiangsu Company | 77.89 | 79.70
China Jiangsu International Economic Technical Cooperation Corp | 77.89 | 79.70
Shanghai Yongchen International Trading Company Ltd | 77.89 | 79.70
Hebei Jinzhou Import & Export Corporation | 77.89 | 79.70
Sinochem Hebei Import & Export Corp | 77.89 | 79.70
Chongqing Dyestuff Import & Export United Corp | 7.89 | 79.70
Wuhan Tianjin Chemicals Imports & Exports Corp., Ltd | 77.89 | 79.70
PRC-wide rate | 129.60 | 129.60

This amended order is published in accordance with section 736(a) of the Act and 19 CFR 351.211.

Dated: June 19, 2000.
Richard W. Moreland,
Acting Assistant Secretary for Import Administration.

[FR Doc. 00-15963 Filed 6-22-00; 8:45 am]

BILLING CODE 3510-DS-P